DEPARTMENT OF COMMERCE

International Trade Administration

[A-351-859, A-533-915, A-201-858, A-580-916, A-791-828, C-580-917]

Brass Rod From the Republic of Korea: Amended Final Antidumping Duty Determination; Brass Rod From Brazil, India, Mexico, the Republic of Korea, and South Africa: Antidumping Duty Orders; Brass Rod From the Republic of Korea: Countervailing Duty Order

AGENCY: Enforcement and Compliance, International Trade Administration, Department of Commerce.

SUMMARY: Based on affirmative final determinations by the U.S. Department of Commerce (Commerce) and the U.S. International Trade Commission (ITC), Commerce is issuing the antidumping duty (AD) orders on brass rod from Brazil, India, Mexico, the Republic of Korea (Korea), and South Africa and a countervailing duty (CVD) order on brass rod from Korea. In addition, Commerce is amending its final determination of sales at less than fair value (LTFV) with respect to brass rod from Korea to correct a ministerial error.

DATES: Applicable June 13, 2024.

FOR FURTHER INFORMATION CONTACT: Claudia Cott or Thomas Schauer (Brazil), AD/CVD Operations, Office I, Enforcement and Compliance, International Trade Administration, U.S. Department of Commerce, 1401 Constitution Avenue NW, Washington, DC 20230; telephone: (202) 482-4270 and (202) 482-0410, respectively; Allison Hollander or Christopher Williams (India), Office I; telephone: (202) 482-2805 or (202) 482-5166; Frank Schmitt or Jacob Waddell (Mexico), Office VI; telephone: (202) 482-4880 or (202) 482-1369, respectively; Krisha Hill or Drew Jackson (AD Korea), Office IV; telephone: (202) 482-4037 or (202) 482-4406, respectively; Dmitry Vladimirov (South Africa), Office I; telephone: (202) 482-0665; or Toni Page or Lingjun Wang (CVD Korea), Office VII; telephone: (202) 482-1398, or (202) 482-2316, respectively.

SUPPLEMENTARY INFORMATION:

Background

In accordance with sections 705(d) and 735(d) of the Tariff Act of 1930, as amended (the Act), on April 22, 2024, Commerce published its affirmative final determinations of sales at LTFV of brass rod from Brazil, India, Mexico, Korea, and South Africa,¹ and its affirmative final determination that countervailable subsidies are being provided to producers and exporters of brass rod from Korea.² In the LTFV and CVD investigations of brass rod from Korea, a respondent timely alleged that Commerce made certain ministerial errors. See “Amendment to the Korea Final Determination of Sales at Less than Fair Value” section below for further discussion.

¹ See Brass Rod from Brazil: Final Affirmative Determination of Sales at Less Than Fair Value, 89 FR 29303 (April 22, 2024); Brass Rod from India: Final Affirmative Determination of Sales at Less Than Fair Value, 89 FR 29300 (April 22, 2024) (India Final LTFV Determination); Brass Rod from Mexico: Final Affirmative Determination of Sales at Less Than Fair Value, 89 FR 29305 (April 22, 2024); Brass Rod from the Republic of Korea: Final Affirmative Determination of Sales at Less Than Fair Value, 89 FR 29298 (April 22, 2024) (Korea Final LTFV Determination); Brass Rod from South Africa: Final Affirmative Determination of Sales at Less Than Fair Value, 89 FR 29292 (April 22, 2024), (collectively, Final LTFV Determinations).

² See Brass Rod from the Republic of Korea: Final Affirmative Countervailing Duty Determination, 89 FR 29290 (April 22, 2024) (Korea Final CVD Determination).

On June 5, 2024, pursuant to sections 705(d) and 735(d) of the Act, the ITC notified Commerce of its final affirmative determinations that an industry in the United States is materially injured by reason of dumped imports of brass rod from Brazil, India, Mexico, the Korea, and South Africa, and subsidized imports of brass rod from Korea, within the meaning of sections 705(b)(1)(A)(i) and 735(b)(1)(A)(i) of the Act.³

³ See ITC's Letter, “Notification of ITC Final Determinations,” dated June 5, 2024 (ITC Notification Letter).

Scope of the Orders

The product covered by these orders is brass rod from Brazil, India, Mexico, Korea, and South Africa. For a complete description of the scope of the orders, see the appendix to this notice.

Amendment to the Final Determination of Sales at Less Than Fair Value for Korea

We determine that we made certain ministerial errors in the final LTFV and CVD determinations on brass rod from Korea. Pursuant to 19 CFR 351.224(e), and as explained further in the Korea AD Ministerial Error Memorandum ⁴ and Korea CVD Ministerial Error Memorandum ⁵ issued concurrently with this notice, Commerce is amending the Korea Final LTFV Determination to reflect the correction of certain ministerial errors, which resulted from the misclassification of certain subsidies in the companion CVD proceeding. Correction of these errors changes the final AD adjusted cash deposit rate for Daechang Co., Ltd., Seowon Co. Ltd., and IMI Co. Ltd., as well as the cash deposit rate for all other producers and exporters not individually investigated. The revised rates are listed in the “Estimated Weighted-Average Dumping Margins” section, below.

⁴ See Memorandum, “Less-Than-Fair-Value Investigation of Brass Rod from the Republic of Korea: Allegation of Ministerial Error in the Final Determination,” dated concurrently with this notice.

⁵ See Memorandum, “Countervailing Duty Investigation of Brass Rod from the Republic of Korea: Analysis of Ministerial Error Allegations,” dated June 4, 2024. Commerce is not amending the CVD final determination.

AD Orders

On June 5, 2024, in accordance with section 735(d) of the Act, the ITC notified Commerce of its final determinations that an industry in the United States is materially injured within the meaning of section 735(b)(1)(A)(i) of the Act by reason of imports of brass rod from Brazil, India, Mexico, Korea, and South Africa that are sold in the United States at less than fair value.⁶ Therefore, in accordance with section 735(c)(2) and 736 of the Act, Commerce is issuing these AD orders. Because the ITC determined that imports of brass rod from Brazil, India, Mexico, Korea, and South Africa are materially injuring a U.S. industry, unliquidated entries of such merchandise from Brazil, India, Mexico, Korea, and South Africa, entered or withdrawn from warehouse for consumption, are subject to the assessment of antidumping duties.

⁶ See ITC Notification Letter.

Therefore, in accordance with section 736(a)(1) of the Act, Commerce will direct U.S. Customs and Border Protection (CBP) to assess, upon further instruction by Commerce, antidumping duties equal to the amount by which the normal value of the merchandise exceeds the export price (or constructed export price) of the merchandise on all relevant entries of brass rod from Brazil, India, Mexico, Korea, and South Africa. Antidumping duties will be assessed on unliquidated entries of brass rod entered, or withdrawn from warehouse, for consumption on or after December 1, 2023, the date of publication of the Preliminary Determinations of Sales at LTFV,⁷ but will not include entries occurring after the expiration of the provisional measures period and before publication of the ITC's final injury determination, as further described below.

⁷ See Brass Rod from Brazil: Preliminary Affirmative Determination of Sales at Less Than Fair Value, Postponement of Final Determination, and Extension of Provisional Measures, 88 FR 83910 (December 1, 2023); Brass Rod from India: Preliminary Affirmative Determination of Sales at Less Than Fair Value, Postponement of Final Determination, and Extension of Provisional Measures, 88 FR 83900 (December 1, 2023); and Brass Rod from Mexico: Preliminary Affirmative Determination of Sales at Less Than Fair Value, 88 FR 83913 (December 1, 2023); Brass Rod from the Republic of Korea: Preliminary Affirmative Determination of Sales at Less Than Fair Value, 88 FR 83915 (December 1, 2023); Brass Rod from South Africa: Preliminary Affirmative Determination of Sales at Less Than Fair Value, Postponement of Final Determination, and Extension of Provisional Measures, 88 FR 83904 (December 1, 2023), (collectively, Preliminary Determinations of Sales at LTFV).

Continuation of Suspension of Liquidation and Cash Deposits—AD

Except as noted in the “Provisional Measures—AD” section of this notice, Commerce intends to instruct CBP to continue to suspend liquidation on all relevant entries of brass rod from Brazil, India, Mexico, Korea, and South Africa, in accordance with section 736 of the Act. These instructions suspending liquidation will remain in effect until further notice.

Commerce also intends to instruct CBP to require cash deposits equal to the estimated weighted-average dumping margins indicated in the tables below, adjusted by the relevant subsidy offsets. Accordingly, effective on the date of publication in the Federal Register of the notice of the ITC's final affirmative injury determination, CBP must require, at the same time as importers would normally deposit estimated customs duties on subject merchandise, a cash deposit equal to the rates listed in the tables below.

Estimated Weighted-Average Dumping Margins

The estimated weighted-average dumping margins are as follows:

⁸ See India AD Final Determination, 89 FR at 29302.

Exporter/producer | Weighted-average dumping margin (percent)
Brazil
Termomecanica Sao Paulo S.A | 22.78
Megabras Industria Eletronica Ltda | 77.14
All Others | 22.78

Exporter/producer | Weighted-average dumping margin (percent) | Cash deposit rate (adjusted for subsidy offsets) (percent) ⁸
India
Rajhans Metals Pvt Ltd | 2.19 | 0.00
Shree Extrusions Limited | 5.42 | 3.22
All Others | 2.41 | 0.00
Korea
Booyoung Industry | 9.18 | 7.45
Daechang Co., Ltd./Seowon Co. Ltd./IMI Co. Ltd | 8.26 | 6.78
All Others | 8.48 | 6.94

Exporter/producer | Weighted-average dumping margin (percent)
Mexico
Industrias Unidas S.A. de C.V | 6.51
Aleamex S.A. de C.V | 29.43
All Others | 6.51
South Africa
Non-Ferrous Metal works (SA) (PTY) Ltd | 10.67
All Others | 10.67

Provisional Measures—AD

Section 733(d) of the Act states that suspension of liquidation pursuant to an affirmative preliminary determination may not remain in effect for more than four months, except where exporters representing a significant proportion of exports of the subject merchandise request that Commerce extend the four-month period to no more than six months. At the request of exporters that accounted for a significant proportion of exports of brass rod from Brazil, India, Mexico, Korea, and South Africa, Commerce extended the four-month period to no more than six-months.⁹ In the underlying investigations, Commerce published the AD Preliminary Determinations on December 1, 2023. Therefore, the six-month period beginning on the date of the publication of the AD Preliminary Determinations ended on May 28, 2024. Pursuant to section 737(b) of the Act, the collection of cash deposits at the rates listed above will begin on the date of publication of the ITC's final injury determinations. Therefore, in accordance with section 736(a)(1) of the Act and our practice, Commerce will instruct CBP to terminate the suspension of liquidation and to liquidate, without regard to antidumping duties, unliquidated entries of brass rod from Brazil, India, Mexico, Korea, and South Africa entered, or withdrawn from warehouse, for consumption on or after May 29, 2024, the first day provisional measures were no longer in effect, until and through the day preceding the date of publication of the ITC's final injury determination in the Federal Register. Suspension of liquidation and the collection of cash deposits will resume on the date of publication of the ITC's final determinations in the Federal Register.

⁹ See AD Preliminary Determinations.

CVD Order

As stated above, based on the above-referenced affirmative final determination by the ITC that an industry in the United States is materially injured within the meaning of section 705(b)(1)(A)(i) of the Act by reason of subsidized imports of brass rod from Korea,¹⁰ in accordance with section 705(c)(2) of the Act, Commerce is issuing this CVD order.¹¹ Moreover, because the ITC determined that imports of brass rod from Korea are materially injuring a U.S. industry, unliquidated entries of subject merchandise from Korea entered, or withdrawn from warehouse, for consumption, are subject to the assessment of countervailing duties.

¹⁰ See ITC Notification Letter.

¹¹ On February 1, 2024, the ITC determined that an industry in the United States is materially injured by reason of imports of brass rod from India, and on February 13, 2024, Commerce published the CVD order on brass rod from India. See Brass Rod from India: Countervailing Duty Order, 89 FR 10032 (February 13, 2024).

Therefore, in accordance with section 706(a) of the Act, Commerce intends to direct CBP to assess, upon further instruction by Commerce, countervailing duties on all relevant entries of brass rod from Korea, which are entered, or withdrawn from warehouse, for consumption on or after September 29, 2023, the date of publication of the Korea CVD Preliminary Determination, but will not include entries occurring after the expiration of the provisional measures period and before the publication of the ITC's final injury determination under section 705(b) of the Act, as further described in the “Provisional Measures—CVD” section of this notice.¹²

¹² See Brass Rod from the Republic of Korea: Preliminary Affirmative Countervailing Duty Determination and Alignment of Final Determination With Final Antidumping Duty Determination, 88 FR 67233 (September 29, 2023) (Korea CVD Preliminary Determination).

Suspension of Liquidation and Cash Deposits—CVD

In accordance with section 706 of the Act, Commerce intends to instruct CBP to reinstitute the suspension of liquidation of brass rod from Korea, effective on the date of publication of the ITC's final affirmative injury determination in the Federal Register, and to assess, upon further instruction by Commerce, pursuant to section 706(a)(1) of the Act, countervailing duties on each entry of subject merchandise in an amount based on the net countervailable subsidy rates below. On or after the date of publication of the ITC's final injury determination in the Federal Register, CBP must require, at the same time as importers would normally deposit estimated customs duties on this merchandise, a cash deposit equal to the rates listed in the table below. These instructions suspending liquidation will remain in effect until further notice. The all-others rate applies to all producers or exporters not specifically listed below, as appropriate.

Estimated Countervailing Duty Subsidy Rates

The estimated countervailing duty subsidy rates are as follows:

Company | Subsidy rate (percent ad valorem)
Booyoung Industry | 2.04
Daechang Co. Ltd | 3.70
All Others | 2.87

Provisional Measures—CVD

Section 703(d) of the Act states that the suspension of liquidation pursuant to an affirmative preliminary determination may not remain in effect for more than four months. Commerce published the Korea CVD Preliminary Determination on September 29, 2023.¹³ As such, the four-month period beginning on the date of the publication of the Korea CVD Preliminary Determination ended on January 26, 2024.

¹³ Id.

For Booyoung Industry, Commerce determined a de minimis preliminary estimated countervailable subsidy rate in the Korea CVD Preliminary Determination, and an affirmative final estimated countervailable subsidy rate in the Korea CVD Final Determination.¹⁴ Therefore, in accordance with section 705(c)(1)(B)(ii) of the Act, we instructed CBP to suspend liquidation of entries of brass rod from Korea produced or exported by Booyoung Industry that were entered, or withdrawn from warehouse, for consumption on or after April 22, 2024, the date of publication of the Korea CVD Final Determination. Accordingly, provisional measures will not expire for Booyoung Industry until August 20, 2024.

¹⁴ See Korea CVD Preliminary Determination, 88 FR at 67234; see also Korea CVD Final Determination, 89 FR at 29291.

For all other companies, in accordance with section 703(d) of the Act, we instructed CBP to terminate the suspension of liquidation and to liquidate, without regard to countervailing duties, unliquidated entries of brass rod from Korea entered, or withdrawn from warehouse, for consumption, on or after January 27, 2024, the date on which the provisional measures expired, until and through the day preceding the date of publication of the ITC's final injury determination in the Federal Register. Suspension of liquidation and the collection of cash deposits will resume on the date of publication of the ITC's final determination in the Federal Register.

Establishment of the Annual Inquiry Service Lists

On September 20, 2021, Commerce published the Final Rule in the Federal Register.¹⁵ On September 27, 2021, Commerce also published the Procedural Guidance in the Federal Register.¹⁶ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

¹⁵ See Regulations to Improve Administration and Enforcement of Antidumping and Countervailing Duty Laws, 86 FR 52300 (September 20, 2021) (Final Rule).

¹⁶ See Scope Ruling Application; Annual Inquiry Service List; and Informational Sessions, 86 FR 53205 (September 27, 2021) (Procedural Guidance).

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹⁷

¹⁷ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁸ the new annual inquiry service list will be in place until the following year, when the Opportunity Notice for the anniversary month of the order is published.

¹⁸ See Procedural Guidance, 86 FR at 53206.

Commerce may update an annual inquiry service list at any time as needed based on interested parties' amendments to their entries of appearance to remove or otherwise modify their list of members and representatives, or to update contact information. Any changes or announcements pertaining to these procedures will be posted to the ACCESS website.

Special Instructions for Petitioners and Foreign Governments

In the Final Rule, Commerce stated that, “after an initial request and placement on the annual inquiry service list, both petitioners and foreign governments will automatically be placed on the annual inquiry service list in the years that follow.” ¹⁹ Accordingly, as stated above, the petitioner and the Governments of Brazil, India, Mexico, Korea, and South Africa should submit their initial entries of appearance after publication of this notice in order to appear in the first annual inquiry service lists for these orders. Pursuant to 19 CFR 351.225(n)(3), the petitioner and the Governments of Brazil, India, Mexico, Korea, and South Africa will not need to resubmit their entries of appearance each year to continue to be included on the annual inquiry service list. However, the petitioner and the Governments of Brazil, India, Mexico, Korea, and South Africa are responsible for making amendments to their entries of appearance during the annual update to the annual inquiry service list in accordance with the procedures described above.

¹⁹ See Final Rule, 86 FR at 52335.

Notification to Interested Parties

This notice constitutes the AD orders with respect to brass rod from Brazil, India, Mexico, Korea, and South Africa and the CVD order with respect to brass rod from Korea, pursuant to sections 706(a) and 736(a) of the Act. Interested parties can find a list of AD and CVD orders currently in effect at https://enforcement.trade.gov/stats/iastats1.html.

These orders are issued and published in accordance with sections 706(a) and 736(a) of the Act and 19 CFR 351.211(b).

Dated: June 7, 2024.
Ryan Majerus,
Deputy Assistant Secretary for Policy and Negotiations, performing the non-exclusive functions and duties of the Assistant Secretary for Enforcement and Compliance.

Appendix

Scope of the Orders

The products within the scope of these orders are brass rod and bar (brass rod), which is defined as leaded, low-lead, and no-lead solid brass made from alloys such as, but not limited to the following alloys classified under the Unified Numbering System (UNS) as C27450, C27451, C27460, C34500, C35000, C35300, C35330, C36000, C36300, C37000, C37700, C48500, C67300, C67600, and C69300, and their international equivalents.

The brass rod subject to these orders has an actual cross-section or outside diameter greater than 0.25 inches but less than or equal to 12 inches. Brass rod cross-sections may be round, hexagonal, square, or octagonal shapes as well as special profiles (e.g., angles, shapes), including hollow profiles.

Standard leaded brass rod covered by the scope contains, by weight, 57.0-65.0 percent copper; 0.5-3.0 percent lead; no more than 1.3 percent iron; and at least 15 percent zinc. No-lead or low-lead brass rod covered by the scope contains by weight 59.0-76.0 percent copper; 0-1.5 percent lead; no more than 0.35 percent iron; and at least 15 percent zinc. Brass rod may also include other chemical elements (e.g., nickel, phosphorous, silicon, tin, etc.).

Brass rod may be in straight lengths or coils. Brass rod covered by these orders may be finished or unfinished, and may or may not be heated, extruded, pickled, or cold-drawn. Brass rod may be produced in accordance with ASTM B16, ASTM B124, ASTM B981, ASTM B371, ASTM B453, ASTM B21, ASTM B138, and ASTM B927, but such conformity to an ASTM standard is not required for the merchandise to be included within the scope.

Excluded from the scope of these orders is brass ingot, which is a casting of unwrought metal unsuitable for conversion into brass rod without remelting, that contains, by weight, at least 57.0 percent copper and 15.0 percent zinc.

The merchandise covered by these orders is currently classifiable under subheadings 7407.21.9000, 7407.21.7000, and 7407.21.1500 of the Harmonized Tariff Schedule of the United States (HTSUS). Products subject to the scope may also enter under HTSUS subheadings 7403.21.0000, 7407.21.3000, and 7407.21.5000. The HTSUS subheadings and UNS alloy designations are provided for convenience and customs purposes. The written description of the scope of these orders is dispositive.

[FR Doc. 2024-13041 Filed 6-12-24; 8:45 am]

BILLING CODE 3510-DS-P